DEPARTMENT OF STATE

[Public Notice: 12655]

Notice of Department of State Sanctions Actions Pursuant to the Executive Order Regarding Blocking Property With Respect to Specified Harmful Foreign Activities of the Government of the Russian Federation

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/russian-harmful-foreign-activities-sanctions.

Notice of Department of State Actions

On December 18, 2024, the Department of State, in consultation with other departments, as appropriate, determined that the property and interests in property subject to U.S. jurisdiction of the following persons are blocked under the relevant sanctions authority listed below.

BILLING CODE 4710-07-P

BILLING CODE 4710-07-C

Vessels

1. AKADEMIK CHERSKIY (a.k.a. AKADEMIK CHERSKY; a.k.a. AKADEMIK CZERSKY) (UDQB) Pipe-laying Vessel Russia flag; Secondary sanctions risk: See Section 11 of Executive Order 14024.; Vessel Registration Identification IMO 8770261 (vessel) [RUSSIA-EO14024] [PEESA-EO14039] (Linked To: SAMARA HEAT AND ENERGY PROPERTY FUND).

Identified as property in which SAMARA HEAT AND ENERGY PROPERTY FUND, a person designated pursuant to E.O. 14024, has an interest.

2. IVAN SIDORENKO (UHLC) Service Vessel Russia flag; Secondary sanctions risk: See Section 11 of Executive Order 14024.; Vessel Registration Identification IMO 9624213 (vessel) [RUSSIA-EO14024] [PEESA-EO14039] (Linked To: JOINT STOCK COMPANY NOBILITY).

Identified as property in which JOINT STOCK COMPANY NOBILITY, a person designated pursuant to E.O. 14024, has an interest.

3. OSTAP SHEREMETA (UBCS9) Service Vessel Russia flag; Secondary sanctions risk: See Section 11 of Executive Order 14024.; Vessel Registration Identification IMO 9624225 (vessel) [RUSSIA-EO14024] [PEESA-EO14039] (Linked To: JOINT STOCK COMPANY NOBILITY).

Identified as property in which JOINT STOCK COMPANY NOBILITY, a person designated pursuant to E.O. 14024, has an interest.

4. ANTEY (a.k.a. VLADISLAV STRIZHOV) (UEKQ) Anchor Handling Vessel Russia flag; Secondary sanctions risk: See Section 11 of Executive Order 14024.; Vessel Registration Identification IMO 9310018 (vessel) [RUSSIA-EO14024] [PEESA-EO14039] (Linked To: LLC KOKSOKHIMTRANS; Linked To: JOINT STOCK COMPANY ARDAL).

Identified as property in which JOINT STOCK COMPANY ARDAL, a person designated pursuant to E.O. 14024, has an interest.

5. HERMES (a.k.a. YURY TOPCHEV) (UFYE) Offshore Tug/Supply Ship Russia flag; Secondary sanctions risk: See Section 11 of Executive Order 14024.; Vessel Registration Identification IMO 9338230 (vessel) [RUSSIA-EO14024] [PEESA-EO14039] (Linked To: LLC KOKSOKHIMTRANS; Linked To: JOINT STOCK COMPANY ARDAL).

Identified as property in which JOINT STOCK COMPANY ARDAL, a person designated pursuant to E.O. 14024, has an interest.

6. LAMANTIN (a.k.a. MARLIN) (UBNV2) Offshore Support Vessel Russia flag; Secondary sanctions risk: See Section 11 of Executive Order 14024.; Vessel Registration Identification IMO 9396854 (vessel) [RUSSIA-EO14024] [PEESA-EO14039] (Linked To: TRANSADRIA LTD; Linked To: LIMITED LIABILITY COMPANY FARVATER).

Identified as property in which LIMITED LIABILITY COMPANY FARVATER, a person designated pursuant to E.O. 14024, has an interest.

7. FIONA (a.k.a. “FORTUNA”) (UBDP8) Service Vessel Russia flag; Secondary sanctions risk: See Section 11 of Executive Order 14024.; Vessel Registration Identification IMO 8674156 (vessel) [CAATSA—RUSSIA] [RUSSIA-EO14024] [PEESA-EO14039] (Linked To: KVT-RUS).

Identified as property in which KVT RUS, a person designated pursuant to E.O. 14024, has an interest.

8. ARTEMIS OFFSHORE (UBRS8) Offshore Support Vessel Russia flag; Secondary sanctions risk: See Section 11 of Executive Order 14024.; Vessel Registration Identification IMO 9747194 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

9. BAKHTEMIR (UBYQ7) Salvage Ship Russia flag; Secondary sanctions risk: See Section 11 of Executive Order 14024.; Vessel Registration Identification IMO 9797577 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

10. BALTIYSKIY ISSLEDOVATEL (a.k.a. “BALT. ISSLEDOVATEL”; a.k.a. “BALTIC EXPLORER”) (UBAQ4) Supply Vessel Russia flag; Secondary sanctions risk: See Section 11 of Executive Order 14024.; Vessel Registration Identification IMO 9572020 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

11. FINVAL (UBSU4) Offshore Tug/Supply Ship Russia flag; Secondary sanctions risk: See Section 11 of Executive Order 14024.; PEESA Information: Property and Interests in Property Blocked, Except Importation of Goods; Vessel Registration Identification IMO 9272412 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

12. KAPITAN BEKLEMISHEV (a.k.a. CAPTAIN BEKLEMISHEV) (UBSJ) Tug Russia flag; Secondary sanctions risk: See Section 11 of Executive Order 14024.; Vessel Registration Identification IMO 8724080 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

13. MURMAN (UBAN4) Salvage Ship Russia flag; Secondary sanctions risk: See Section 11 of Executive Order 14024.; Vessel Registration Identification IMO 9682423 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

14. NARVAL (UBVQ9) Offshore Tug Russia flag; Other Vessel Call Sign UBMQ9; Secondary sanctions risk: See Section 11 of Executive Order 14024.; Vessel Registration Identification IMO 9171876 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

15. SIVUCH (UBWQ2) Offshore Tug/Supply Ship Russia flag; Secondary sanctions risk: See Section 11 of Executive Order 14024.; Vessel Registration Identification IMO 9157820 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

16. SPASATEL KAREV (UBKI6) Salvage Ship Russia flag; Secondary sanctions risk: See Section 11 of Executive Order 14024.; Vessel Registration Identification IMO 9497531 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

17. UMKA (UBXP5) Offshore Tug Russia flag; Secondary sanctions risk: See Section 11 of Executive Order 14024.; Vessel Registration Identification IMO 9171620 (vessel) [RUSSIA-EO14024] [PEESA-EO14039] (Linked To: FEDERAL STATE BUDGETARY INSTITUTION MARINE RESCUE SERVICE).

Identified as property in which FEDERAL STATE BUDGETARY INSTITUTION MARINE RESCUE SERVICE, a person designated pursuant to E.O. 14024, has an interest.

Amy E. Holman,
Principal Deputy Assistant Secretary, Bureau of Economic and Business Affairs, Department of State.

[FR Doc. 2025-02896 Filed 2-20-25; 8:45 am]

BILLING CODE 4710-07-P